DEPARTMENT OF ENERGY

Federal Energy Regulatory Commission

Combined Notice of Filings

Take notice that the Commission has received the following Natural Gas Pipeline Rate and Refund Report filings:

Filings Instituting Proceedings

Docket Numbers: RP13-443-000.

Applicants: Millennium Pipeline Company, L.L.C.

Description: Millennium Pipeline Company, L.L.C. submits Penalty Revenue Crediting Report.

Filed Date: 1/11/13.

Accession Number: 20130111-5038.

Comments Due: 5 p.m. ET 1/23/13.

Docket Numbers: RP13-444-000.

Applicants: Cheyenne Plains Gas Pipeline Company LLC.

Description: Request for Waiver of Cheyenne Plains Gas Pipeline Company, L.L.C.

Filed Date: 1/11/13.

Accession Number: 20130111-5184.

Comments Due: 5 p.m. ET 1/23/13.

Docket Numbers: RP13-445-000.

Applicants: Gas Transmission Northwest LLC.

Description: Gas Transmission Northwest LLC submits Coyote Springs Lateral Refund Report.

Filed Date: 1/14/13.

Accession Number: 20130114-5030.

Comments Due: 5 p.m. ET 1/28/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-1067-002.

Applicants: Leaf River Energy Center LLC.

Description: Leaf River Energy Center LLC—Revised Compliance Filing to be effective 12/1/2012.

Filed Date: 1/11/13.

Accession Number: 20130111-5100.

Comments Due: 5 p.m. ET 1/23/13.

Docket Numbers: RP12-1068-002.

Applicants: Tres Palacios Gas Storage LLC.

Description: Tres Palacios Gas Storage LLC—Revised Compliance Filing to be effective 12/1/2012.

Filed Date: 1/11/13.

Accession Number: 20130111-5045.

Comments Due: 5 p.m. ET 1/23/13.

Docket Numbers: RP12-1075-002.

Applicants: Arlington Storage Company, LLC.

Description: Arlington Storage Company, LLC—Revised Compliance Filing to be effective 12/1/2012.

Filed Date: 1/11/13.

Accession Number: 20130111-5052.

Comments Due: 5 p.m. ET 1/23/13.

Docket Numbers: RP13-169-002.

Applicants: El Paso Natural Gas Company, L.L.C.

Description: Atmos Energy Corporation Non-Conforming TSA to be effective 10/25/2012.

Filed Date: 1/11/13.

Accession Number: 20130111-5153.

Comments Due: 5 p.m. ET 1/23/13.

Docket Numbers: RP13-389-001.

Applicants: Equitrans, L.P.

Description: Refile Negotiated Rate Service Agreement—Stone Energy Corp to be effective 12/17/2012.

Filed Date: 1/14/13.

Accession Number: 20130114-5027.

Comments Due: 5 p.m. ET 1/28/13.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: January 14, 2013.
Nathaniel J. Davis, Sr.,
Deputy Secretary.

[FR Doc. 2013-01370 Filed 1-23-13; 8:45 am]

BILLING CODE 6717-01-P